NUCLEAR REGULATORY COMMISSION

[Docket Nos. 50-325 and 50-324]

Carolina Power & Light Company, Brunswick Steam Electric Plant, Unit Nos. 1 and 2; Environmental Assessment and Finding of No Significant Impact

Introduction

The U.S. Nuclear Regulatory Commission (NRC) is considering issuance of an exemption from 10 CFR Part 50, Appendix J for Facility Operating Licenses Nos. DPR-71 and DPR-62 issued to the Carolina Power & Light Company (the licensee, also doing business as Progress Energy Carolinas, Inc.) for operation of the Brunswick Steam Electric Plant, Unit Nos. 1 and 2 located in Brunswick County, North Carolina.

Environmental Assessment

Identification of the Proposed Action

The proposed action would exempt the licensee from requirements to include main steam isolation valve (MSIV) leakage in the overall integrated leakage rate test measurement required by Section III.A of Appendix J, Option B.

The proposed action is in accordance with the licensee's application dated October 6, 2004, for exemption from certain requirements of Title 10 of the Code of Federal Regulations (10 CFR), Part 50, Appendix J.

The Need for the Proposed Action

Section 50.54(o) of 10 CFR Part 50 requires that primary reactor containments for water-cooled power reactors be subject to the requirements of Appendix J to 10 CFR Part 50. Appendix J specifies the leakage test requirements, schedules, and acceptance criteria for tests of the leaktight integrity of the primary reactor containment and systems and components that penetrate the containment. Option B, Section III.A requires that the overall integrated leak rate must not exceed the allowable leakage (La) with margin, as specified in the Technical Specifications (TS). The overall integrated leak rate, as specified in the 10 CFR Part 50, Appendix J definitions, includes the contribution from MSIV leakage. By letter dated October 6, 2004, the licensee has requested an exemption from Option B, Section III.A requirements to permit exclusion of MSIV leakage from the overall integrated leak rate test measurement.

The above-cited requirement of Appendix J requires that MSIV leakage measurements be grouped with the leakage measurements of other containment penetrations when containment leakage tests are performed. These requirements are inconsistent with the design of the Brunswick facilities and the analytical models used to calculate the radiological consequences of design-basis accidents. At Brunswick and similar facilities, the leakage from primary containment penetrations under accident conditions is collected and treated by the secondary containment system or would bypass the secondary containment. However, the leakage from MSIVs is collected and treated via an Alternative Leakage Treatment (ALT) path having different mitigation characteristics. In performing accident analyses, it is appropriate to group various leakage effluents according to the treatment they receive before being released to the environment, i.e., bypass leakage is grouped, leakage into secondary containment is grouped, and ALT leakage is grouped, with specific limits for each group defined in the TS. The proposed exemption would permit ALT path leakage to be independently grouped with its unique leakage limits.

Environmental Impacts of the Proposed Action

The proposed action will not significantly increase the probability or consequences of accidents. The NRC staff has completed its evaluation of the proposed action and finds that the proposed exemption involves no increase in the total amount of radioactive effluent that may be released off site in the event of a design-basis accident. Therefore, the calculated doses remain within the acceptance criteria of 10 CFR Part 100 and Standard Review Plan Section 15, and there is no significant increase in occupational or public radiation exposure. The NRC staff thus concludes that granting the proposed exemption would result in no significant radiological environmental impact.

The proposed action does not affect non-radiological plant effluents or historical sites and has no other environmental impact. Therefore, there are no significant non-radiological impacts associated with the proposed exemption.

Accordingly, the NRC concludes that there are no significant environmental impacts associated with the proposed action.

Alternative to the Proposed Action

As an alternative to the proposed action, the staff considered denial of the proposed action (i.e., the “no action” alternative). Denial of the exemption would result in no change in current environmental impacts. The environmental impacts of the proposed action and the alternative action are similar.

Alternative Use of Resources

This action does not involve the use of any resources not previously considered in the Final Environmental Statement dated January 1974 for the Brunswick Steam Electric Plant, Unit Nos. 1 and 2.

Agencies and Persons Consulted

In accordance with its stated policy, on March 1, 2005, the NRC staff consulted with the North Carolina State official, Ms. Wendy Tingle of the North Carolina Department of Environmental and Natural Resources, Division of Radiation Protection, regarding the environmental impact of the proposed action. Ms. Tingle had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 6, 2004. Documents may be examined, and/or copied for a fee, at the NRC's Public Document Room (PDR), located at One White Flint North, Public File Area O1F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 28th day of February, 2005.
For the Nuclear Regulatory Commission.
Brenda L. Mozafari,
Senior Project Manager, Section 2, Project Directorate II, Division of Licensing Project Management, Office of Nuclear Reactor Regulation.

[FR Doc. 05-4312 Filed 3-4-05; 8:45 am]

BILLING CODE 7590-01-P